DEPARTMENT OF HOUSING AND URBAN DEVELOPMENT

[Docket No. FR-4455-C-03]

Notice of Annual Factors for Determining Public Housing Agency Ongoing Administrative Fees for the Housing Choice Voucher Program and the Rental Certificate and Moderate Rehabilitation Programs; Technical Corrections

AGENCY: Office of the Assistant Secretary for Public and Indian Housing, HUD.

ACTION: Notice; technical corrections.

SUMMARY: This notice announces technical corrections to the monthly per unit fee amounts for use in determining the on-going administrative fee for public housing agencies (PHAs) administering the housing choice voucher program, and the rental certificate and moderate rehabilitation programs (including Single Room Occupancy and Shelter Plus Care) during Federal Fiscal Year (FY) 2000 published February 25, 2000 in the Federal Register.

EFFECTIVE DATE: May 22, 2000.

FOR FURTHER INFORMATION CONTACT: Gerald J. Benoit, Director, Real Estate and Housing Performance Division, Office of Public and Assisted Housing Delivery, Office of Public and Indian Housing, Department of Housing and Urban Development, Room 4210, 451 Seventh Street, SW., Washington, DC 20410-8000; telephone number (202) 708-0477 (this is not a toll-free telephone number). Hearing or speech impaired individuals may access this number via TTY by calling the toll-free Federal Information Relay Service at 1-800-877-8339.

SUPPLEMENTARY INFORMATION:

I. Technical Amendment

This technical amendment corrects an error in the Federal Register dated February 25, 2000 (65 FR 10316). On page 10316, subpart (c)(1) Preliminary Fees, it reads “HUD may pay preliminary fees * * * if the first year of administering the Section 8 program was begun prior to October 21, 1998 (Emphasis added)”. The Quality Housing and Work Responsibility Act of 1998, (QHWRA) changed PHA eligibility for preliminary fees. PHAs now may earn a fee up to $500 per unit for the initial funding increment for the first year the PHA administers a tenant-based assistance program, and only if the first year the PHA was administering the Section 8 program was begun on or after the merger date of October 1, 1998. See 24 CFR 982.152 (c).

In addition to the above change, this notice transmits changes to the monthly Administrative Fees Amounts on the fee tables. The administrative fee revisions are in Appendix A. These changes are to correct a computer programming error that caused a small reduction in the fees in the listed areas. The metropolitan FMR areas that have changed are listed below with the Federal Register page number to enable PHAs to easily identify if these revised fees apply to their program. Note that when there is a duplicate city listing, check for the appropriate state.

Aurburn-Opelika, AL-MSA, Corvallis, OR-MSA, and Culpepper County, VA were omitted from the administrative fee schedule for FY 2000 published in the February 25, 2000 Federal Register (65 FR 10316). They are listed in the attached administrative fee revision.

The metropolitan areas that have changes and their page numbers in the February 25, FY 2000 Federal Register are as follows:

Metropolitan FMR areas | Page | Metropolitan FMR areas | Page
Amarillo, TX | MSA 10362 | Laredo, TX | MSA 10362
Anniston, AL | MSA 10318 | Louisille, KY-IN | MSA 10334
Biloxi-Gulfport-Pascagpula, MS | MSA 10344 | Louisille, KY-IN | MSA 10334
Columbia, GA | MSA 10345 | Lubbock, TX | MSA 10362
Columbus, GA-AL | MSA 10318 | Macon, GA | MSA 10326
Columbus, GA-AL | MSA 10326 | McAllen-Edinburg-Mission, TX | MSA 10362
Cumberland, MD-WV | MSA 10338 | Memphis, TN-AR-MS | MSA 10361
Cumberland, MD-WV | MSA 10368 | Memphis, TN-AR-MS | MSA 10361
Decatur, AL | MSA 10318 | Montgomery, AL | MSA 10318
Eau Claire, WI | MSA 10369 | Myrtle Beach, SC | MSA 10359
Florence, AL | MSA 10318 | Owensboro, KY | MSA 10334
Fort Smith, AR-OK | MSA 10319 | Parkersburg-Marietta, WV-OH | MSA 10369
Fort Smith, AR-OK | MSA 10319 | Parkersburg-Marietta, WV-OH | MSA 10369
Gadsden, AL | MSA 10318 | Pendleton County, KY | 10334
Gallatin County, KY | 10334 | Provo-Orem, UT | MSA 10365
Grant County, KY | 10334 | Reno, NV | MSA 10349
Greenville-Spartanburg, Anderson, SC | MSA 10359 | Salt Lake City-Ogden, UT | MSA 10365
Hattiesburg, MS | MSA 10344 | San Angelo, TX | MSA 10362
Henderson County, TX | 10362 | Scranton-Wilkes-Barre-Hazleton, PA | MSA 10357
Huntington-Ashland, WV-KY-OH | MSA 10334 | Sherman-Denison, TX | MSA 10362
Huntington-Ashland, WV-KY-OH | MSA 10368 | Springfield, MO | MSA 10345
Huntington-Ashland, WV-KY-OH | MSA 10368 | St. Joseph, MO | MSA 10345
Johnson City-Kingsport-Bristol, TN-VA | MSA 10361 | Sumter, SC | MSA 10359
Johnson City-Kingsport-Bristol, TN-VA | MSA 10361 | Texarkana, TX-AR | MSA 10319
Joplin, MO | MSA 10345 | Texarkana, TX-AR | MSA 10362
Killeen-Temple, TX | MSA 10362 | Waco, TX | MSA 10362
|  | Wausau, WI | MSA 10370

Dated: May 12, 2000.
Gloria Cousar,
Deputy Assistant Secretary for Public and Assisted Housing Delivery.

BILLING CODE 4210-33-P

[FR Doc. 00-12713 Filed 5-19-00; 8:45 am]

BILLING CODE 4210-33-P